DEPARTMENT OF ENERGY

Federal Energy Regulatory Commission

[Docket No. CP04-340-000]

Southern Natural Gas Company; Notice of Application

May 28, 2004.

Take notice that on May 18, 2004, Southern Natural Gas Company (Southern Natural) filed in the above-captioned docket an application pursuant to the provisions of section 7 of the Natural Gas Act, as amended, and pursuant to the Commission's Regulations requesting an order approving the abandonment of certain pipeline and appurtenant facilities and for a certificate of public convenience and necessity authorizing the construction, installation, and operation of certain other pipeline and appurtenant facilities. Southern Natural's proposals are more fully set forth in the application which is on file with the Commission and open to public inspection. The name, address, and telephone number of the person to whom any further questions, correspondence and communications concerning this application should be addressed is: Patricia S. Francis, Senior Counsel, Southern Natural Gas Company, P.O. Box 2563, Birmingham, Alabama 35202-2563; phone: (205) 325-7696.

Southern Natural requests authorization to abandon by sale to Atlanta Gas Light Company (Atlanta Gas) about 253.6 miles of various pipelines located between Southern Natural's south main lines and north main lines which serve the metropolitan area of Atlanta, Georgia. Southern Natural proposed to sell the various pipelines and appurtenant facilities to Atlanta Gas at a cost of about $32,000,000. In addition, Southern will abandon 10 meter stations and two regulator stations and construct, install, and operate four new delivery points consisting of tap, metering, and appurtenant facilities at Southern's existing property at the Thomaston Compressor Station, the Bass Junction Crossover, the South Atlanta #1 site and the Ben Hill Check Station. Southern also requests authorization to construct, install, and operate about 6.36 miles of 30-inch pipeline to close the gap between its 20-inch Thomaston-Griffin 2nd Loop and 30-inch Ocmulgee-Atlanta 3rd Loop in Spalding County, Georgia. The total cost of these facilities is estimated to be $19,280,289. Finally, Southern proposes to uprate about 11.4 miles of its 16-inch South Main Line between Milepost 459.9 and 471.3 in Jefferson and Richmond Counties, Georgia from a Maximum Allowable Operating Pressure (MAOP) of 1,100 psig to an MAOP of 1,200 psig.

In addition, Southern Natural and Atlanta Gas have agreed to extend the terms of various natural gas transportation agreements between themselves on a staggered basis until 2015. Southern Natural requests the Commission's approval of the application by no later than October 31, 2004, in order to close on the sale of facilities by April 1, 2005.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's rules of practice and procedure (18 CFR 385.214 or 385.211) and the regulations (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project, or in support of or in opposition to this project, should submit an original and two copies of their comments to the Secretary of the Commission. Environmental commenters will be placed on the Commission's environmental mailing list, will receive copies of the environmental documents, and will be notified of meetings associated with the Commission's environmental review process. Environmental commenters will not be required to serve copies of filed documents on all other parties. The Commission's rules require that persons filing comments in opposition to the project provide copies of their protests only to the applicant. However, the non-party commenters will not receive copies of all documents filed by other parties or issued by the Commission (except for the mailing of environmental documents issued by the Commission) and will not have the right to seek court review of the Commission's final order.

The Commission strongly encourages electronic filings of comments, protests, and interventions via the internet in lieu of paper. See 18 CFR 385.2001(a)(1)(iii) and the instructions on the Commission's Web site (http://www.ferc.gov) under the “e-Filing” link.

Comment Date: June 18, 2004.

Magalie R. Salas,
Secretary.

[FR Doc. E4-1262 Filed 6-7-04; 8:45 am]

BILLING CODE 6717-01-P